EXPORT-IMPORT BANK

Economic Impact Policy

This notice is to inform the public that the Export-Import Bank has received an application to guarantee up to $25 million of equipment and other goods and services on the behalf of U.S. exporters to a buyer in Mexico. The U.S. exports will enable the Mexican company to produce non-automotive flat glass. The Mexican company will produce 146,000 metric tons of glass with a thickness between 2.4 and 8.0 mm. It is envisioned this new production will be consumed in Mexico and the United States. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 03-15346 Filed 6-17-03; 8:45 am]

BILLING CODE 6690-01-M